DEPARTMENT OF LABOR

Employment and Training Administration

[SGA/DFA 02-106]

Grants for States

AGENCY: Employment and Training Administration (ETA), Labor.

ACTION: Notice of availability of funds and solicitation for grant applications (SGA).

This notice contains all of the necessary information and forms needed to apply for grant funding.

SUMMARY: The Employment and Training Administration (ETA), U.S. Department of Labor (DOL) announces the availability of funds to be awarded to States under one of three separate competitions to award grants to (1) States, (2) intermediaries, and (3) small faith-based and community-based non-profit organizations. These awards have three important objectives:

• Increase the number of faith-based and community-based organizations serving as committed and active partners in the One-Stop delivery system

• Expand the access of faith-based and community-based organizations' clients and customers to the services offered by the nation's One-Stops

• Identify, document, showcase and replicate successful and innovative instances of faith- and community-based involvement in our system-building.

ETA has identified $14.9 million from the FY 2001 appropriation for One-Stop/America's Labor Market Information System and $500,000 from funds authorized under Section 171 of the Workforce Investment Act for these system-building objectives. A total of $9.9 million is available to be awarded to States under this notice.

DATE: The closing date for receipt of applications is Thursday, May 16, 2002. Application must be received by 4 p.m. (Eastern Standard Time) at the address below: No exceptions to the mailing and hand-delivery conditions set forth in this notice will be granted. Applications that do not meet the conditions set forth in this notice will not be honored. Telefacsimile (FAX) applications will not be honored. Applicants are advised that the Department's receipt of mail has encountered delays because of mail screening procedures at local post offices.

ADDRESSES: Applications must be mailed to the U.S. Department of Labor, Employment and Training Administration, Division of Federal Assistance, Attention: B. Jai Johnson, SGA/DFA 02-106, 200 Constitution Avenue, NW., Room S-4203, Washington, DC 20210

Hand Delivered Proposals. If proposals are hand delivered, they must be received at the designated address by 4 p.m., Eastern Time on Thursday, May 16, 2002. All overnight mail will be considered to be hand delivered and must be received at the designated place by the specified closing date and time. Telegraphed, e-mail and/or fax proposals will not be honored. Failure to adhere to the above instructions will be a basis for determination of non-responsive.

Late Proposals. A proposal received at the designated office after the exact time specified for receipt will not be considered unless it is received before the award is made and it:

• Was sent by U.S. Postal Service registered or certified mail not later than the fifth day (5th) calendar day before the closing date specified for receipt of applications (e.g. an offer submitted a response to a solicitation requiring receipt of application by the 20th of the month must be mailed by the 15th):

• Was sent by U.S. Postal Service Express Mail Next Day Service, Post Office to Addressee, not later than 5 p.m. at the place of mailing two working days prior to the deadline date specified for receipt of proposals in this SGA. The term “working days” excludes weekends and U.S. Federal holidays.

The only acceptable evidence to establish the date of mailing of an application received after the deadline date for the receipt of proposals sent by the U.S. Postal Service registered or certified mail is the U.S. postmark on the envelope or wrapper affixed by the U.S. Postal Service and on the original receipt from the U.S. Postal Service. The term “post marked” means a printed, stamped, or otherwise place impression (exclusive of a postage meter machine impression) that is readily identifiable without further action as having been supplied or affixed on the date of mailing by employees of the U.S. Postal Service.

Withdrawal of Applications. Applications may be withdrawn by written notice or telegram (including mailgram) received at any time before an award is made. Application may be withdrawn in person by the applicant or by an authorized representative thereof, if the representative's identity is made known and the representative signs a receipt for the proposal.

FOR FURTHER INFORMATION CONTACT: Questions should be faxed to B. Jai Johnson, Grants Management Specialist, Division of Federal Assistance, Fax (202) 693-2879. This is not a toll-free number. All inquiries should include the SGA number (DFA 02-106) and a contact name, fax and phone number. This solicitation will also be published on the Internet on the Employment and Training Administration's Homepage at http://www.doleta.gov. Award notifications will also be published on this Homepage.

SUPPLEMENTARY INFORMATION: Through the grants awarded under these three announcements, ETA seeks to ensure that an important Workforce Investment Act tenet—universal access to the programs and services offered under WIA—is further rooted in the customer-responsive delivery systems already established by the Governors, local elected officials and local Workforce Investment Boards. Through these grant competitions, ETA also reaffirms its continuing commitment to those customer-focused reforms instituted by State and local governments which help Americans access the tools they need to manage their careers through information and high quality services, and to help U.S. companies find skilled workers.

On January 29, 2001, President George W. Bush issued Executive Order 13198, creating the Office for Faith-Based and Community Initiatives in the White House and centers in the departments of Labor, Health and Human Services (HHS), Housing and Urban Development (HUD), Education (ED), Justice (DOJ). President Bush charged the Cabinet centers with identifying statutory, regulatory, and bureaucratic barriers that stand in the way of effective faith-based and community initiatives, and to ensure, consistent with the law, that these organizations have equal opportunity to compete for federal funding and other support.

These solicitations reflect the outcome of discussions between the Department's Center for Faith-Based and Community-Based Initiatives (CFBCI) and ETA to provide expanded opportunities for the Federal-State-local partnerships under WIA to engage the faith-based and community-based organizations in service delivery, while providing additional points of entry for customers into the One-Stop system. These solicitations also reflect the Administration's interest in creating new avenues through which qualified grass-roots organizations can more fully participate under the Workforce Investment Act while bringing their particular strengths and talents in service provision to our customers.

These solicitations also proceed from an ETA-CFBCI mutual premise: the involvement of community-based organizations and faith-based organizations can complement and supplement the efforts of local workforce development systems in providing universal access and serving the training-, job- and career-support needs of many of our customers. Success in the implementation of the Workforce Investment Act is clearly derived from the power of partnerships. Many community-based organizations have fully participated with distinction as direct recipients or as sub-recipients of Federal resources under the Comprehensive Employment and Training Act (CETA) , the Job Training Partnership Act (JTPA) and are currently doing so under WIA. These solicitations are designed to bring other community-based organizations to the decision-making and service delivery mechanisms under WIA.

Faith-based and community-based organizations present credentials for full partnership in our mutual system-building endeavors. FBOs/CBOs are often trusted institutions within our poorest neighborhood, serving the very hardest-to-reach constituents in a cost-effective manner. FBOs/CBOs are home to a large number of volunteers who not only bring the transformational power of personal relationships to the provision of social service but a sustained allegiance to the well-being of their participants they serve. Through their daily work and specific programs, FBOs/CBOs strive to achieve some common purposes shared with government—reduction of welfare dependency, attainment of occupational skills, entry and retention of all our citizens in good-paying jobs. With appropriate planning, the FBO/CBO programs and resources can be leveraged into the workforce investment strategies already embodied in State and local strategic plans.

These three solicitations represent an important element of an overall strategy for outreach to the people served by our nation's community-based organizations and faith-based organizations. A Training and Employment Guidance Letter (TEGL) will be issued in April 2002 to state workforce agencies, worker adjustment liaisons, workforce liaisons, and One-Stop Center system leads. The TEGL will request these principals to commit to a full engagement with faith-based and community-based organizations. The TEGL will encourage local workforce boards to appoint member(s) who are familiar with the FBOs/CBOs that provide job training, soft skills training and employment services in the labor market, and work in conjunction with the state workforce agency's faith-based liaison to share ideas and collect promising practices. The TEGL also will ask the state principals to collaborate with the local workforce investment areas in creating a campaign to educate the appropriate FBOs/CBOs about the workforce investment system, One-Stop Centers, available grants-in-aid, and to invite their participation.

A total of $500,000 is reserved for from small private non-profit organizations to provide authorized services to WIA participants. ETA expects to award approximately 20 to 25 grants under this competition.

The provided services would supplement the services that local One-Stop delivery systems currently provide. The recipient organizations receiving grant funds will partner with the local Workforce Investment Boards and One-Stop operators to carry out various services of direct benefit to customers. The sub-grantees could offer, for example, “soft-skills” training such as communications, problem-solving, and time management which will allow the individual to function in an employment environment Other sub-grantee activities can include GED tutoring of at-risk youth, after school programs for youth, day care for elders, job loss counseling, language translation services, “community audits” (a resource guide to support services within the community), and “cultural sensitivity” training programs.

A total of $5.0 million is reserved for grants for eligible intermediary organizations. ETA expects to award between 5 to 8 grants, with the awards ranging between $500,000 and $1,000,000. ETA will set the amount for each grant after reviewing the proposed activities, and evaluating the ability of each applicant on a State and multi-State basis to achieve the desired system-building objectives. Some intermediary grant recipients, therefore, may be authorized to proceed with a portion—but not the entirety—of their presented project plan.

Under this competition, eligible “intermediaries” include those non-profit, community, and/or faith-based organizations with connections to grassroots faith-based and community organizations with the ability to connect those organizations to the nation's workforce development system in more than one service area. The eligible intermediary does not have to be located in more than one jurisdiction as long as their reach extends beyond one jurisdiction, and the application addresses providing services in more than one jurisdiction.

The selected intermediaries under this competition will develop necessary infrastructure, perform outreach and recruitment of community-based and faith-based organizations, conduct information dissemination campaigns, and engage in capacity-building efforts to establish and strengthen the administrative potential of grassroots organizations to receive future grants. These intermediaries will award and manage sub-grants to FBOs/CBOs for service provision in local workforce development areas.

Under this award, the intermediary may issue a sub-grant to a grassroots organization which

(a) Is headquartered in the local community to which it provides services; and,

(i) Has a social services budget of $300,000 or less, or

(ii) Has 6 or fewer full-time equivalent employees.

The “$300,000 or less” budget includes only that portion of an organization's budget allocated to providing social services. It does not include other portions of the budget such as salaries and expenses. For purposes of this announcement local affiliates of national organizations are not considered “grassroots” and would not be eligible for a sub-grant award.

The Establishment Clause of the First Amendment of the United States Constitution prohibits the government from directly funding religious activity. These grants may not be used for instruction in religion or sacred literature, worship, prayer, proselytizing or other inherently religious practices. The services provided under these grants must be secular and non-ideological. Grant or sub-grant recipients, therefore, may not and will not be defined by reference to religion. Neutral, secular criteria that neither favor nor disfavor religion must be employed in their selection. In addition, under the WIA and DOL regulations implementing the Workforce Investment Act, a recipient may not employ or train a participant in sectarian activities, or permit participants to construct, operate, or maintain any part of a facility that is primarily used or devoted to sectarian instruction or worship. Under WIA, no individual shall be excluded from participation in, denied the benefits of, subjected to discrimination under, or denied employment in the administration of or in connection with, any such program or activity because of race, color, religion, sex (except as otherwise permitted under title IX of the Education Amendments of 1972), national origin, age, disability, or political affiliation or belief.

Through these grants, the Department expects to assist the State, local partners and new intermediaries in reaching out to additional customers who would otherwise not be served by the publicly-funded workforce development system. The Department views these investments as instrumental in supporting and broadening partnerships which will strengthen One-Stop service delivery.

These grants are made under the following authorities:

• The Workforce Investment Act of 1998 (WIA or the Act) (Public Law 105-220, 29 U.S.C. 2801 et seq.)

• WIA Final Rule, 20 CFR parts 652, 660-671 (65 FR 49294 (August 11, 2000));

• Interim Final Rule implementing the nondiscrimination and equal opportunity provision (section 188) of WIA, 29 CFR part 37 (64 FR 61692 (November 12, 1999));

• Planning Guidance and Instructions for Submission of the Strategic Five-Year State Plan for title I of the Workforce Investment Act of 1998 and the Wagner-Peyser Act (64 FR 9402 (February 25, 1999))

• Final Unified Plan Planning Guidance (65 FR 2464 (January 14, 2000))

• Executive Order 13198; “Rallying the Armies of Compassion”

• “Report on a Unlevel Playing Field: Barriers to Participation by Faith-Based and Community Organization in Federal Service Programs”

Period of Performance: The period of performance is one year.

Application of Guidelines

Eligible Applicants

All states, District of Columbia, Puerto Rico, and Virgin Islands are eligible to apply for these grants.

Note: Except as specifically provided, DOL/ETA acceptance of a proposal and an award of federal funds to sponsor any program(s) does not provide a waiver of any grant requirement and/or procedures. For example, the OMB circulars require that an entity's procurement procedures must require that all procurement transactions must be conducted, as practical, to provide open and free competition. If a proposal identifies a specific entity to provide the services, the DOL/ETA's award does not provide the justification or basis to sole-source the procurement, i.e., avoid competition.

Application Process

The application must clearly identify the applicant (or the fiscal agent), the grant recipient (and/or fiscal agent), and its capacity to administer this project. Applicants must submit one copy with an original signature and two additional copies of their proposal. The proposal must contain the Standard Form (SF) 424, Application for Federal Assistance, signed by the Governor or the individual designated in the State Workforce Investment Act Strategic Plan.

The application's Statement of Work must be double-spaced, and on single-sided, numbered pages. A font size of at least twelve (12) pitch is required throughout.

There are three required sections:

Section I—Application for Federal Assistance (SF 424A)

Section II—Statement of Work,

Section III—Budget Information (SF 424B)

ETA will not consider applications that fail to provide complete information in these three sections.

Section I —Application for Federal Assistance (SF 424A)

(See Attachment “A”)

Section II —Statement of Work (not to exceed 15 pages)

The Statement of Work sets forth a strategic context for the use of these funds, establishes measurable goals for increasing “organizational” participation, and documents those sustainable State and local partner actions to more fully serve the clientele and members of community-based and faith-based organizations. The narrative in Section II will be evaluated in accordance with the guidance under “Review Process and Evaluation Criteria” contained in this announcement.

Section III —Budget Information (SF-424B)

(See Attachment “B”)

Note: Administrative Costs

Pursuant to 20 CFR 667.210(b), grantees are advised that there is a 10% limitation on administrative costs on funds administered under this grant. The Grant Officer may, however, approve additional administrative costs, up to a maximum of 15% of the total award amount, for that grantee providing adequate justification. In no event, may administrative costs exceed 15% of the total award amount. The cost of administration shall include those disciplines enumerated in 20 CFR 667.220(b) and (c).

Section IV—Review Process and Evaluation Criteria

(Note: Please follow the evaluation criteria when writing and assembling your proposal.) ETA, CFBCI and other Federal agency staff are expected to serve on the technical panel(s) that will review all applications against the criteria listed below. The panel recommendations are advisory. The ETA grant officer will fully consider the panel recommendations but take into account geographic balance and other factors to ensure the most advantageous award of these funds to accomplish the system-building purposes outlined in the Summary and Statement of Work. The grant officer may consider any information that comes to his or her attention. The grant officer reserves the right to award without further negotiation.

Each application will be evaluated against the following rating criteria.

Strategic Context (10 points)

The State application must relate the investments and activities under this grant to the workforce development vision, goals and objectives reflected in its current WIA Strategic Plan. The application should clearly establish a link between unmet customer service needs and the ability of community-based and faith-based organizations to help bridge those needs. (5 points)

The application in this section and in its entirety should evidence the capability to document successful instances of faith-based and community-based organization involvement (both existing as well as those made possible through this grant). Describe how these examples can be successfully transferred and replicated consistent with the Federal-state-local emphasis on “promising practices.” Describe how this investment would fit with other Federally funded initiatives which engage the CBOs/FBOs. (5 points)

Community-Based and Faith-Based “Organizational” Involvement (50 points)

Describe State plans to conduct outreach to community-based organizations and faith-based organizations to seek their new (or enlarged) participation in the One-Stop delivery system. Identify the stakeholders and principals in the State and local workforce development systems who will contribute to the outreach and evaluation responsibilities identified in these plans. Summarize the innovative approaches that will be used in working with grassroots organizations to catalogue the full range of community services that are available for those served by the workforce investment system. (10 points)

Describe the formal State evaluation criteria for measuring the success of engagement with the grass-roots organizations under this grant. Describe how these criteria will be developed through consultation with One-Stop operator(s), State and local board(s). (10 points)

Describe “leveraging opportunities': i.e., how these grant funds can leverage (and can also be leveraged) with financial and non-financial resources provided by the community-based and faith-based organizations in service of the workforce preparation needs of each community. (10 points)

Outline how State and local governance will “add the voice” of community-based and faith-based organizations (individually or within coalitions) in future board-based strategic planning. (10 points)

Describe how the applicant will ensure that signatories to the “memorandum(a) of understanding” in each local area of the State are thoroughly briefed on the purposes of the CFBCI/ETA faith- and community-based initiative and the purposes of these grants-in-aid. Describe how local partner suggestions and ideas for further strengthening these CBO and FBO relationships with the workforce development system have been incorporated into this application. (10 points)

Providing “Universal Access” to Workforce Investment Act Services (40 points)

Describe how the grant funds will be used to expand the opportunity of individuals served by the community-based organizations and faith-based organizations to learn about and gain access to the services offered by the One-Stop delivery system within the State. Describe plans to sustain the increased access of individuals served by CBOs and FBOs beyond the term of this grant. (20 points)

Describe how customers and the staff who serve them are provided with suitable access to the web-based, State-developed applications and websites which provide valuable information on services, training, jobs, career and the local labor markets as well as those electronic tools contained within America's Labor Market Information System and America's Career Kit (America's Job Bank, America's Career InfoNet, O*NET, and Workforce Tools of the Trade). Describe the training and tutoring support that will be provided on these electronic tools. Summarize how the CBOs/FBOs and the individuals they serve will gain knowledge about the Federal Bonding Program and Work Opportunity Tax Credit programs. (20 points)

Reporting Requirement

The grantee must submit quarterly narrative progress and financial reports. The grantee must also prepare and submit a final report summarizing all accomplishments under the grant. The format of all reports and submission instructions will be contained in the grant document.

Signed in Washington, DC, this 10th day of April, 2002.
James W. Stockton,
Grant Officer.

Appendix A: (SF) 424—Application Form

Appendix B: (Budget Information Form)

BILLING CODE 7536-01-M

[FR Doc. 02-9260 Filed 4-16-02; 8:45 am]

BILLING CODE 4510-30-C